DEPARTMENT OF TRANSPORTATION

Federal Aviation Administration

Availability of Record of Decision for the Environmental Impact Statement (EIS) for the Proposed LaGuardia Access Improvement Project at LaGuardia Airport (LGA), New York City, Queens County, New York

AGENCY: Federal Aviation Administration (FAA), Department of Transportation (DOT).

ACTION: Notice of availability for Record of Decision.

SUMMARY: This notice is intended to advise the public that on July 20, 2021, the FAA issued a Record of Decision (ROD) for the federal actions reviewed in the Final Environmental Impact Statement (EIS) for the proposed LaGuardia Airport (LGA) Access Improvement Project and its connected actions (the Proposed Action). The ROD includes numerous environmental findings by the FAA, as well as environmental determinations related to funding opportunities that are subject to federal oversight.

The Final EIS and ROD are available for download on the project website at https://www.lgaaccesseis.com.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION: The FAA, as lead agency, has completed and is publishing a ROD for proposed improvements identified at LGA. The ROD was prepared pursuant to Title 40 Code of Federal Regulations (CFR) 1505.2.

The Final EIS for the proposed LGA Access Improvement Project was published on the project website at www.lgaaccesseis.com on March 15, 2021 and two Notices of Availability in the Federal Register were published; the first by the FAA on March 18, 2021 (86 FR 14796) and the second by the Environmental Protection Agency on March 19, 2021 (86 FR 14908). The FAA prepared the Final EIS pursuant to: The National Environmental Policy Act (NEPA) of 1969, 42 United States Code (U.S.C.) 4321 et seq.; the Council of Environmental Quality implementing regulations, 40 CFR parts 1500-1508; FAA Order 1050.1F; and FAA Order 5050.4B. FAA assessed the potential environmental impacts of the Proposed Action, as well as the No Action Alternative.

In the Final EIS, the FAA identified the Proposed Action as its preferred alternative in meeting the purpose and need of addressing unpredictable and increasing travel times to and from LGA and space constraints for employee parking. The Proposed Action includes:

• Construction of an above ground fixed guideway automated people mover (APM) system approximately 2.3 miles in length that extends from the LGA Central Hall Building under construction to the Mets-Willets Point Long Island Rail Road (LIRR) and New York City Transit Subway Flushing Line (7 Line) Stations;

• construction of two on-Airport APM stations (Central Hall APM Station and East APM Station) and one off-Airport APM station at Willets Point (Willets Point APM Station) that provides connections to the Mets-Willets Point LIRR and 7 Line stations;

• construction of passenger walkway systems to connect the APM stations to the passenger terminals, parking garages, and ground transportation facilities;

• construction of a multi-level APM operations, maintenance, and storage facility (OMSF) that includes up to 1,000 parking spaces (500 for airport employees, 250 for Metropolitan Transportation Authority (MTA) employees, 50 for APM employees, and 200 for replacement Citi Field parking);

• construction of three traction power substations to provide power to the APM guideway: One located at the on-Airport East Station, another at-grade west of the proposed Willets Point Station just south of Roosevelt Avenue, and the third at the OMSF;

• construction of a 27kV main substation located adjacent to the OMSF structure on MTA property;

• construction of utilities infrastructure, both new and modified, as needed, to support the Proposed Action, including a permanent stormwater outfall into Flushing Creek and a temporary stormwater outfall into Flushing Creek; and

• acquisition of temporary and permanent easements; no private property will be acquired.

The Proposed Action also includes various connected actions, including: Utility relocation and demolition of certain existing facilities; a temporary MTA bus storage/parking facility; relocation of up to 200 Citi Field parking spaces; demolition and replacement of the Passerelle Bridge; temporary walkway to maintain access between the transit stations and Flushing Meadows-Corona Park; modifications to the Mets-Willets Point LIRR Station, including new shuttle service on the LIRR Port Washington Line; and the relocation of several World's Fair Marina facilities, including a boat lift, finger piers and connected timber floating dock, Marina office and boatyard facility, boat storage and parking, and operations shed.

The ROD includes FAA's favorable environmental findings and determinations needed for the Port Authority to pursue future funding subject to FAA oversight pursuant to 49 U.S.C. 47106 and 47107 and 49 U.S.C. 40117. The findings included in the ROD are:

• The Proposed Action will conform with the Clean Air Act of 1970, as amended (42 U.S.C. 7401 et seq.);

• The Proposed Action includes all practicable measures to minimize harm to endangered species as much as such harm may result from implementation of the Proposed Action (Endangered Species Act of 1974, U.S.C. 1531, as amended);

• There is no prudent and feasible alternative to use of lands containing publicly owned parks, recreation areas, national wildlife refuges, or significant historic sites protected under Section 4(f) of the DOT Act, and the Proposed Action includes all possible planning to minimize harm to resources protected under Section 4(f) of the DOT Act (49 U.S.C. 303(c) and Section 106, National Historic Preservation Act);

• Relocation assistance, if any, will be provided in accordance with 42 U.S.C. 460, Uniform Relocation Assistance and Real Property Acquisition Policies Act of 1970;

• Further mitigation measures or alternatives that would avoid or reduce the disproportionately high and adverse effects to minority environmental justice populations are not practicable (DOT Order 5610.2B and E.O. 12989);

• The Proposed Action would conform to all applicable state and/or local floodplain protection standards (E.O. 11988);

• The Proposed Action complies with the enforceable policies of New York State's approved coastal management program and will be conducted in a manner consistent with such program;

• The Proposed Action conforms to the Avoidance, Minimization and/or Compensation of Harm to Wetlands in Accordance with E.O. 11990 and the Clean Water Act;

• The Proposed Action includes all practicable means to avoid or minimize harm from the alternative selected (40 CFR 1505.2(a)(3)); and

• The FAA has given this proposal the independent and objective evaluation required by the CEQ (40 CFR 1506.5).

The determinations included in the ROD are:

• The Proposed Action is reasonably consistent with existing plans of public agencies for development of areas surrounding the airport (49 U.S.C. 47106(a)(1)), and E.O. 12372;

• Appropriate action, including the adoption of zoning laws, has been or will be taken as reasonable to restrict the land use next to or near the airport to uses that are compatible with airport operations (49 U.S.C. 47107(a)(10)); and

• The interest of the communities in or near where the Proposed Action may be located were given fair consideration (49 U.S.C. 47106(b)(2)).

This ROD also presents the decision of the NPS, as cooperating agency in the Final EIS, to approve a partial conversion of 0.5 acres of parklands subject to the Land and Water Conservation Fund (LWCF) Act in Flushing Meadows-Corona Park, as well as to approve a Temporary Non-Conforming Use (TNCU) of 1.2 acres of parkland subject to the LWCF Act.

A copy of the ROD is available for public review at FAA's website: https://www.faa.gov/airports/environmental/records_decision; and the LGA Access Improvement Project EIS website: http://www.LGAaccessEIS.com.

Issued in Jamaica, New York, July 20, 2021.
Patricia Henn,
Manager, Planning and Programming Branch, Airports Division, Eastern Region.

[FR Doc. 2021-15704 Filed 7-22-21; 8:45 am]

BILLING CODE 4910-13-P